NATIONAL AERONAUTICS AND SPACE ADMINISTRATION

[Notice 04-082]

NASA Biological and Physical Research Advisory Committee, Space Station Utilization Advisory Subcommittee; Meeting

AGENCY: National Aeronautics and Space Administration (NASA).

ACTION: Notice of meeting.

SUMMARY: The National Aeronautics and Space Administration announces a meeting of the NASA Biological and Physical Research Advisory Committee, Space Station Utilization Advisory Subcommittee (SSUAS).

DATES: Wednesday, July 28, 2004, 8 a.m. to 5 p.m., Thursday, July 29, 2004, 8 a.m. to 5 p.m. and Friday, July 30, 2004, 8 a.m. to 12 noon.

ADDRESSES: Center for Advanced Space Studies, 3600 Bay Area Blvd, Houston, TX 77058.

FOR FURTHER INFORMATION CONTACT: Dr. Donald A. Thomas, Code U, National Aeronautics and Space Administration, Houston, TX 77058, (281) 483-7211.

SUPPLEMENTARY INFORMATION: The meeting will be open to the public up to the seating capacity of the room. The agenda for the meeting will include the following topics:

• Status on U.S. Vision for Space Exploration and its relationship to Research on International Space Station

• Program Reports from the Office of Biological and Physical Research and the International Space Station Program

• International Space Station Payload Operations

• Recommendations

It is imperative that the meeting be held on this date to accommodate the scheduling priorities of the key participants. Visitors will be requested to sign a visitor's register.

R. Andrew Falcon,
Advisory Committee Management Officer, National Aeronautics and Space Administration.

[FR Doc. 04-15544 Filed 7-7-04; 8:45 am]

BILLING CODE 7510-01-P